SECURITIES AND EXCHANGE COMMISSION

Submission for OMB Review; Comment Request

Upon Written Request, Copies Available From: U.S. Securities and Exchange Commission, Office of Investor Education and Advocacy, Washington, DC 20549-0213

Extension:

Rule 17a-19; OMB Control No. 3235-0133; SEC File No. 270-148.

Form X-17A-19

Notice is hereby given that pursuant to the Paperwork Reduction Act of 1995 (44 U.S.C. 3501 et seq.) the Securities and Exchange Commission (“Commission”) has submitted to the Office of Management and Budget a request for approval of extension of the existing collection of information provided for in the following rule: Rule 17a-19 (17 CFR 240.17a-19) and Form X-17A-19 (17 CFR 249.635) under the Securities Exchange Act of 1934 (15 U.S.C. 78a et seq.) (“Exchange Act”).

Rule 17a-19 requires every national securities exchange and registered national securities association to file a Form X-17A-19 with the Commission within 5 business days of the initiation, suspension, or termination of any member, and when terminating the membership interest of any member, to notify that member of its obligation to file financial reports as required by Exchange Act Rule 17a-5(b) (17 CFR 240.17a-5).

The Commission uses the information contained in Form X-17A-19 to assign the appropriate self-regulatory organization to be the designated examining authority for the member firm. This information is also used by the Securities Investor Protection Corporation (“SIPC”) in determining which self-regulatory body is the collection agent for the SIPC fund.

The information requested by Form X-17A-19 is obtained from the respondent's membership files. The Commission staff estimates that, in its experience, Form X-17A-19 can be completed and signed within 15 minutes. The number of responses per year per respondent varies, depending on the number of membership changes reported. The number of filings is approximately 600 per year. The aggregate time spent by all respondents per year in complying with the rule is therefore approximately 150 hours (600 responses times 1/4 hour equals 150 hours).

An agency may not conduct or sponsor, and a person is not required to respond to, a collection of information unless it displays a currently valid control number.

Comments should be directed to: (i) Desk Officer for the Securities and Exchange Commission, Office of Information and Regulatory Affairs, Office of Management and Budget, Room 10102, New Executive Office Building, Washington, DC 20503 or by sending an e-mail to: Kimberly_P._Nelson@omb.eop.gov; and (ii) Lewis W. Walker, Acting Director/Chief Information Officer, Securities and Exchange Commission, c/o Shirley Martinson, 6432 General Green Way, Alexandria, VA 22312 or send an e-mail to PRA_Mailbox@sec.gov. Comments must be submitted within 30 days of this notice.

September 10, 2008.
Florence E. Harmon,
Acting Secretary.

[FR Doc. E8-21765 Filed 9-18-08; 8:45 am]

BILLING CODE 8010-01-P